DEPARTMENT OF TRANSPORTATION

Federal Highway Administration

Final Federal Agency Actions on Proposed Highway in Kansas

AGENCY: Federal Highway Administration (FHWA), Department of Transportation (DOT).

ACTION: Notice of limitation on claims.

SUMMARY: The FHWA is issuing this notice to announce actions related to a proposed highway project, South Lawrence Trafficway Project 10-23 KA-3634-01 in the City of Lawrence, Douglas County, State of Kansas. Those actions grant permits, licenses, or approvals for the project.

DATES: By this notice, the FHWA is advising the public of final agency actions subject to 23 U.S.C. 139(l)(1). A claim seeking judicial review of the Federal agency actions on the highway project will be barred unless the claim is filed on or before September 1, 2022. If the Federal law that authorizes judicial review of a claim provides a time period of less than 150 days for filing such claim, then that shorter time period still applies.

FOR FURTHER INFORMATION CONTACT: For FHWA: Javier Ahumada, Environmental/Freight & Innovation Coordinator, Kansas Division FHWA, 6111 SW 29th Street, Suite 100, Topeka, KS 66614. Office Phone: (785) 273-2649, Email: javier.ahumada@dot.gov.

SUPPLEMENTARY INFORMATION: Notice is hereby given that the FHWA has taken final agency actions subject to 23 U.S.C. 139(l)(1) by issuing licenses, permits, and approvals for the following highway project in the State of Kansas: KDOT, in cooperation with FHWA, proposes to construct upgrades and widen the west section of the South Lawrence Trafficway (K-10 Highway), located within the south and west limits of the City of Lawrence, Douglas County, Kansas. The proposed project will upgrade the existing two-lane undivided west section of the SLT to a median-divided fully access controlled freeway facility with four lanes. Existing interchanges at West 6th Street/US 40, Bob Billings Parkway, Clinton Parkway, and US-59/Iowa Street would remain interchanges with modifications to accommodate additional freeway travel lanes. Farmers Turnpike will maintain full access to K-10. The existing at-grade West 27th Street/Wakarusa Drive signalized intersection will be improved to a new grade separated interchange. The actions by the Federal agencies, and the laws under which such actions were taken, are described in the Record of Decision for the project, approved on March 21, 2022. The FHWA ROD and KDOT/FHWA Final SEIS can be accessed at the following link www.slt-ks.org. This notice applies to all Federal agency decisions as of the issuance date of this notice and all laws under which such actions were taken, including but not limited to:

(1) Council on Environmental Quality regulations; [40 CFR parts 1500, 1501, 1502, 1503, 1504, 1505, 1506, 1507, 1508, 1515, 1516, 1517, and 1518]

(2) National Environmental Policy Act (NEPA) [42 U.S.C. 4321-4351];

(3) Infrastructure Investment and Jobs Act (IIJA);

(4) Department of Transportation Act of 1966 [49 U.S.C. 101-119, 301-355, 501-526, 701-727];

(5) Federal Aid Highway Act of 1970 [23 U.S.C. 109 and 23 U.S.C. 128];

(6) Clean Air Act Amendments of 1990 [42 U.S.C. 7401-7671(q)];

(7) Noise Control Act of 1972 [42 U.S.C. 4901 et seq.];

(8) 23 CFR part 772 FHWA Noise Standards, Policies and Procedures;

(9) Department of Transportation Act of 1966, Section 4(f) [49 U.S.C. 303];

(10) Clean Water Act of 1977 and 1987 [33 U.S.C. 1251-1377];

(11) Endangered Species Act of 1973 [16 U.S.C. 1531-1544 and Section 1536];

(12) Migratory Bird Treaty Act [16 U.S.C. 703-712];

(13) National Historic Preservation Act of 1966, as amended [16 U.S.C. 470(f) et seq.];

(14) Historic Sites Act of 1935[16 U.S.C. 461];

(15) Title VI of the Civil Rights Act of 1964 [42 U.S.C. 2000(d)-2000(d)(1)].

Authority: 23 U.S.C. 139(l)(1).

Dated: March 28, 2022.
Richard E. Backlund,
Division Administrator, Kansas Division, Federal Highway Administration, Topeka, Kansas.

[FR Doc. 2022-06887 Filed 4-1-22; 8:45 am]

BILLING CODE 4910-22-P